FEDERAL COMMUNICATIONS COMMISSION

[Report No. AUC-00-38-A (Auction No. 38); DA 00-2291]

Auction Of Licenses for the 700 MHz Guard Bands Scheduled for February 13, 2001; Comment Sought On Reserve Prices Or Minimum Opening Bids and Other Auction Procedural Issues: Correction

AGENCY: Federal Communications Commission.

ACTION: Notice; correction.

SUMMARY: The Federal Communications Commission (Commission) published in the Federal Register of October 24, 2000, a document announcing the auction of eight Guard Band Manager licenses (“Auction No. 38”) in the 700 MHz Guard Bands to commence on February 13, 2001. This auction will include the licenses that remained unsold in Auction No. 33, which closed on September 21, 2000. This document corrects the comment and reply comment dates of the document published on October 24, 2000.

DATES: Comments are due on or before October 27, 2000, and reply comments are due on or before November 3, 2000.

ADDRESSES: An original and four copies of all pleadings must be filed with the Commission's Secretary, Magalie Roman Salas, Office of the Secretary, Federal Communications Commission, 445 Twelfth Street, SW, TW-A325, Washington, DC 20554.

FOR FURTHER INFORMATION CONTACT: Auctions and Industry Analysis Division, Wireless Telecommunications Bureau, Howard Davenport, Auctions Attorney, or Craig Bomberger, Auctions Analyst, at (202) 418-0660; or Linda Sanderson, Project Manager, at (717) 338-2888.

SUPPLEMENTARY INFORMATION: In the Federal Register of October 24, 2000 (65 FR 63584), the Commission published a summary of its Public Notice regarding Auction No. 38 and sought comment on several issues relating to the auction. The document however, was published with incorrect comment and reply comment dates.

In rule FR Doc. 00-27409 published on October 24, 2000 (65 FR 63584) make the following corrections.

(1) On page 63585 in the DATES caption, change the comment date to read “October 27, 2000”.

(2) On page 63585 in the DATES caption, change the reply comment date to read “November 3, 2000”.

Federal Communications Commission.

Margaret Wiener,
Deputy Chief, Auctions and Industry Analysis Division.

[FR Doc. 00-27679 Filed 10-25-00; 8:45 am]

BILLING CODE 6712-01-P